DEPARTMENT OF ENERGY

Federal Energy Regulatory Commission

[Project No. 2685-029]

Notice of Application Accepted for Filing and Soliciting Motions To Intervene and Protests; New York Power Authority

Take notice that the following hydroelectric application has been filed with the Commission and is available for public inspection.

a. Type of Application: New Major License.

b. Project No.: 2685-029.

c. Date filed: April 27, 2017.

d. Applicant: New York Power Authority (NYPA).

e. Name of Project: Blenheim-Gilboa Pumped Storage Project (Blenheim-Gilboa Project).

f. Location: The existing project is located on Schoharie Creek, in the Towns of Blenheim and Gilboa in Schoharie County, New York. The project does not affect federal lands.

g. Filed Pursuant to: Federal Power Act 16 U.S.C. 791(a)-825(r).

h. Applicant Contact: Mr. Robert Daly, Licensing Manager, New York Power Authority, 123 Main Street, White Plains, New York 10601. Telephone: (914) 681-6564, Email: Rob.Daly@nypa.gov.

i. FERC Contact: Andy Bernick, Telephone (202) 502-8660, and email andrew.bernick@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2685-029.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

l. The existing Blenheim-Gilboa Project consists of the following: (1) A 2.25-mile-long, 30-foot-wide earth and rock fill embankment dike with a maximum height of 110 feet, constructed at Brown Mountain and forming the 399-acre Upper Reservoir (operating at the maximum and extreme minimum elevations of 2,003 feet and 1,955 feet National Geodetic Vertical Datum of 1929 [NGVD 29], respectively) with 15,085 acre-feet of usable storage and dead storage of 3,706 acre-feet below elevation 1,955 feet NGVD 29; (2) a 655-foot-long emergency spillway with a 25-foot-wide asphaltic concrete crest at elevation 2,005 feet NGVD 29 and a capacity of 10,200 cubic feet per second (cfs); (3) an intake system that includes: (i) a 125-foot-wide hexagonal-shaped intake cover with trash racks with a clear spacing of 5.25 inches; (ii) a 1,042-foot-long, 28-foot-diameter, concrete-lined vertical shaft in the bottom of the Upper Reservoir; (iii) a 906-foot-long horizontal, concrete-lined rock tunnel; and (iv) a 460-foot-long concrete-lined manifold that distributes flow to four 12-foot-diameter steel-lined penstocks, each with a maximum length of about 1,960 feet, to four pump-turbines located at the powerhouse; (4) a 526-foot-long, 172-foot-wide, and 132-foot-high multi-level powerhouse located along the east bank of the Lower Reservoir at the base of Brown Mountain, containing four reversible pump turbines that each produce approximately 290 megawatts (MW) in generation mode, and have a total maximum discharge of 12,800 cfs during generation and 10,200 cfs during pumping; (5) a bottom trash rack with a clear spacing of 5.625 inches, and four upper trash racks with a clear spacing of 5.25 inches; (6) an 1,800-foot-long central core, rock-filled lower dam with a maximum height of 100 feet that impounds Schoharie Creek to form the 413-acre Lower Reservoir (operating at the maximum and minimum elevations of 900 feet and 860 feet NGVD 29, respectively) with 12,422 acre-feet of usable storage and dead storage of 3,745 acre-feet below 860 feet NGVD 29; (7) three 38-foot-wide by 45.5-foot-high Taintor gates at the left end of the lower dam; (8) a 425-foot-long, 134-foot-wide concrete spillway structure with a crest elevation of 855 feet NGVD 29; (9) a 238-foot-long, 68.5-foot-deep concrete stilling basin; (10) a low level outlet with four discharge valves of 4, 6, 8, and 10 inches for release of 5 to 25 cfs, and two 36-inch-diameter Howell-Bunger valves to release a combined flow of 25 to 700 cfs; (11) a switchyard on the eastern bank of Schoharie Creek adjacent to the powerhouse; and (12) appurtenant facilities.

During operation, the Blenheim-Gilboa Project's pump-turbines may be turned on or off several times throughout the day, but the project typically generates electricity during the day when consumer demand is high and other power resources are more expensive. Pumping usually occurs at night and on weekends when there is excess electricity in the system available for use. According to a July 30, 1975, settlement agreement, NYPA releases a minimum flow of 10 cubic feet per second (cfs) during low-flow periods when 1,500 acre-feet of water is in storage, and 7 cfs when less than 1,500 acre-feet is in storage. For the period 2007 through 2016, the project's average annual generation was about 374,854 megawatt-hours (MWh) and average annual energy consumption from pumping was about 540,217 MWh.

m. A copy of the application is available for review at the Commission in the Public Reference Room, or may be viewed on the Commission's Web site at http://www.ferc.gov using the eLibrary link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, .211, and .214. In determining the appropriate action to take, the Commission will consider all protests or other comments filed, but only those who file a motion to intervene in accordance with the Commission's Rules may become a party to the proceeding. Any protests or motions to intervene must be received on or before the specified comment date for the particular application.

All filings must: (1) Bear in all capital letters the title PROTEST or MOTION TO INTERVENE; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural Schedule: The application will be processed according to the following revised Hydro Licensing Schedule. Revisions to the schedule may be made as appropriate.

Milestone | Target date
Filing of motions to intervene and protests | December 11, 2017.
Issuance of Ready for Environmental Analysis notice | January 4, 2018.
Filing of recommendations, preliminary terms and conditions, and preliminary fishway prescriptions | March 5, 2018.
Reply comments due | April 19, 2018.
Commission Issues Draft EA | September 1, 2018.
Comments on Draft EA | October 1, 2018.
Modified terms and conditions due | November 30, 2018.
Commission issues Final EA | February 28, 2019.

Dated: October 12, 2017.
Nathaniel J. Davis, Sr.,
Deputy Secretary.

[FR Doc. 2017-22534 Filed 10-17-17; 8:45 am]

BILLING CODE 6717-01-P